COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds products to the Procurement List that will be furnished by nonprofit agency employing persons who are blind or have other severe disabilities, and deletes products from the Procurement List previously furnished by such agencies.

DATES: Effective May 21, 2017.

ADDRESSES: Committee for Purchase From People Who Are Blind or Severely Disabled, 1401 S. Clark Street, Suite 715, Arlington, Virginia 22202-4149.

FOR FURTHER INFORMATION CONTACT: Amy B. Jensen, Telephone: (703) 603-7740, Fax: (703) 603-0655, or email CMTEFedReg@AbilityOne.gov.

SUPPLEMENTARY INFORMATION:

Additions

On 2/10/2017 (82 FR 10337-10338), the Committee for Purchase From People Who Are Blind or Severely Disabled published notice of proposed additions to the Procurement List.

After consideration of the material presented to it concerning capability of qualified nonprofit agency to provide the products and impact of the additions on the current or most recent contractors, the Committee has determined that the products listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organization that will furnish the products to the Government.

2. The action will result in authorizing small entities to furnish the products to the Government.

3. There are no known regulatory alternatives which would accomplish the objectives of the Javits-Wagner-O'Day Act (41 U.S.C. 8501-8506) in connection with the products proposed for addition to the Procurement List.

End of Certification

Accordingly, the following products are added to the Procurement List:

Products

NSN(s)—Product Name(s): MR 11301—Cooler, Styrofoam, Handled, 12 Qt., MR 11302—Cooler, Styrofoam, Handled, 22 Qt.

Mandatory for: The requirements of military commissaries and exchanges in accordance with the Code of Federal Regulations, 41 CFR 51-6.4.

Mandatory Source(s) of Supply: Winston-Salem Industries for the Blind, Inc., Winston-Salem, NC

Contracting Activity: Defense Commissary Agency

Distribution: C-List

Deletions

On 2/24/2017 (82 FR 11562), 3/10/2017 (82 FR 13312-13313) and 3/17/2017 (82 FR 14208), the Committee for Purchase From People Who Are Blind or Severely Disabled published notices of proposed deletions from the Procurement List.

After consideration of the relevant matter presented, the Committee has determined that the products listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. 8501-8506) in connection with the products deleted from the Procurement List.

End of Certification

Accordingly, the following products are deleted from the Procurement List:

Products

NSN(s)—Product Name(s):

7510-01-545-3762—DAYMAX System, 2016, Calendar Pad, Type I

7510-01-545-3787—DAYMAX System, 2016, Calendar Pad, Type II

Mandatory Source(s) of Supply: Anthony Wayne Rehabilitation Center for Handicapped and Blind, Inc., Fort Wayne, IN

Contracting Activity: General Services Administration, New York, NY

NSN(s)—Product Name(s):

6515-00-NIB-8077—Gloves, Surgical, Powdered, Tradition, White, Size 5.5

6515-00-NIB-8078—Gloves, Surgical, Powdered, Tradition, White, Size 6.0

6515-00-NIB-8079—Gloves, Surgical, Powdered, Tradition, White, Size 6.5

6515-00-NIB-8080—Gloves, Surgical, Powdered, Tradition, White, Size 7.0

6515-00-NIB-8081—Gloves, Surgical, Powdered, Tradition, White, Size 7.5

6515-00-NIB-8082—Gloves, Surgical, Powdered, Tradition, White, Size 8.0

6515-00-NIB-8083—Gloves, Surgical, Powdered, Tradition, White, Size 8.5

6515-00-NIB-8084—Gloves, Surgical, Powdered, Tradition, White, Size 9.0

Mandatory Source(s) of Supply:BOSMA Enterprises, Indianapolis, IN

Contracting Activity: Department of Veterans Affairs, Strategic Acquisition Center

NSN(s)—Product Name(s): 7045-01-599-5297—Anti-Glare Display Shield, iPad

Mandatory Source(s) of Supply: Wiscraft, Inc., Milwaukee, WI

Contracting Activity: General Services Administration, New York, NY

NSN(s)—Product Name(s):

8415-00-NSH-1421—Undershirt, Mock Turtle Lightweight, Cold Weather— C/Coyote (USMC)

8415-00-NSH-1422—Undershirt, Mock Turtle Lightweight, Cold Weather— C/Coyote (USMC)

8415-00-NSH-1423—Undershirt, Mock Turtle Lightweight, Cold Weather— C/Coyote (USMC)

8415-00-NSH-1424—Undershirt, Mock Turtle Lightweight, Cold Weather— C/Coyote (USMC)

8415-00-NSH-1425—Undershirt, Mock Turtle Lightweight, Cold Weather— C/Coyote (USMC)

8415-00-NSH-1426—Undershirt, Mock Turtle Lightweight, Cold Weather— C/Coyote (USMC)

8415-00-NSH-1427—Undershirt, Mock Turtle Lightweight, Cold Weather— C/Coyote (USMC)

8415-00-NSH-1429—Shirt ½Zip Pullover, 100 wt C/Coyote (USMC)

8415-00-NSH-1430—Shirt ½Zip Pullover, 100 wt C/Coyote (USMC)

8415-00-NSH-1431—Shirt ½Zip Pullover, 100 wt C/Coyote (USMC)

8415-00-NSH-1432—Shirt ½Zip Pullover, 100 wt C/Coyote (USMC)

8415-00-NSH-1433—Shirt ½Zip Pullover, 100 wt C/Coyote (USMC)

8415-00-NSH-1434—Shirt ½Zip Pullover, 100 wt C/Coyote (USMC)

8415-00-NSH-1428—Shirt ½Zip Pullover, 100 wt C/Coyote (USMC)

8415-00-NSH-1658—Drawers Lightweight Cold Weather—C/Coyote (USMC)

8415-00-NSH-1659—Drawers Lightweight Cold Weather—C/Coyote (USMC)

8415-00-NSH-1660—Drawers Lightweight Cold Weather—C/Coyote (USMC)

8415-00-NSH-1661—Drawers Lightweight Cold Weather—C/Coyote (USMC)

8415-00-NSH-1662—Drawers Lightweight Cold Weather—C/Coyote (USMC)

8415-00-NSH-1663—Drawers Lightweight Cold Weather—C/Coyote (USMC)

8415-00-NSH-1664—Drawers Lightweight Cold Weather—C/Coyote (USMC)

8415-00-NSH-1665—Drawers Midweight Cold Weather—C/Coyote (MSMC)

8415-00-NSH-1666—Drawers Midweight Cold Weather—C/Coyote (MSMC)

8415-00-NSH-1667—Drawers Midweight Cold Weather—C/Coyote (MSMC)

8415-00-NSH-1668—Drawers Midweight Cold Weather—C/Coyote (MSMC)

8415-00-NSH-1669—Drawers Midweight Cold Weather—C/Coyote (MSMC)

8415-00-NSH-1670—Drawers Midweight Cold Weather—C/Coyote (MSMC)

8415-00-NSH-1671—Drawers Midweight Cold Weather—C/Coyote (MSMC)

Mandatory Source(s) of Supply: Peckham Vocational Industries, Inc., Lansing, MI

Contracting Activity: Department of the Army, W40M Northern Region Contract Office

NSN(s)—Product Name(s): 4910-00-251-6981—Creeper, Mechanics

Mandatory Source(s) of Supply: Quadco Rehabilitation Center, Inc. (Northwest Products Division), Stryker, OH

Contracting Activity: Defense Logistics Agency Land and Maritime

NSN(s)—Product Name(s): 8415-01-576-7524—Hood, Lightweight, Performance, Fire Resistant, Type I, Army, Unisex, Green

Mandatory Source(s) of Supply: Southeastern Kentucky Rehabilitation Industries, Inc., Corbin, KY, Dawn Enterprises, Inc., Blackfoot, ID

NSN(s)—Product Name(s): 5120-00-106-7598—Jack, Scissors, Hand

Mandatory Source(s) of Supply: Employment Source, Inc., Fayetteville, NC

Contracting Activity: Defense Logistics Agency Aviation

NSN(s)—Product Name(s):

8110-01-443-8476—Tube, Mailing, 36″ x 3″

8110-01-443-8480—Tube, Mailing, 24″ x 3″

8110-00-244-7435—Tube, Mailing, 24″ x 2″

8110-00-291-0344—Tube, Mailing and Filing, 30″ x 1½″

8110-00-291-0345—Tube, Mailing, 36″ x 2″

8110-00-291-0346—Tube, Mailing, 42″ x 2″

Mandatory Source(s) of Supply: Unknown

Contracting Activity: General Services Administration, New York, NY

Amy B. Jensen,
Director, Business Operations.

[FR Doc. 2017-08111 Filed 4-20-17; 8:45 am]

BILLING CODE 6353-01-P